DEPARTMENT OF ENERGY

Federal Energy Regulatory Commission

[Project No. 2320-016, New York]

Orion Power New York; Notice of Availability of Environmental Assessment

March 1, 2000.

An environmental assessment (EA) is available for public review. The EA analyzes the environmental effects of proposed changes to the project boundary for the Middle Raquette River project located in the Town of Colton in St. Lawrence County, New York. The proposed boundary changes would result in the removal of about 24 acres of land from two areas of the project's Higley Development.

The EA was written by staff in the Office of Hydropower Licensing, Federal Energy Regulatory Commission. Based on the environmental analyses presented in the EA, the Commission's staff finds that the proposed project boundary changes would not constitute a major federal action significantly affecting the quality of the human environment.

The EA has been attached to and made a part of an Order Amending License, issued March 1, 2000, for the Middle Raquette River project (FERC No. 2320-016). The EA is available for inspection and reproduction at the Commission's Public Reference Room located at 888 First Street, NE, Room 2A, Washington, DC 20426. Copies of the EA also may be obtained by calling (202) 208-1371, or by email at Public.ReferenceRoom@ferc.fed.us. The EA also may be viewed on the Commission's web site at http://www.ferc.fed.us/online/rims.htm (call (202) 208-2222 for assistance).

David P. Boergers,
Secretary.

[FR Doc. 00-5448 Filed 3-6-00; 8:45 am]

BILLING CODE 6717-01-M